DEPARTMENT OF ENERGY

Federal Energy Regulatory Commission

Combined Notice of Filings #1

June 26, 2008.

Take notice that the Commission has received the following Natural Gas Pipeline Rate and Refund Report filings:

Docket Numbers: RP96-359-037.

Applicants: Transcontinental Gas Pipe Line Corp.

Description: Transcontinental Gas Pipeline Corporation submits an executed service agreement containing a negotiated rate which pertains to Rate Schedule FT firm transportation service under Transco's Momentum Expansion Project.

Filed Date: 06/13/2008.

Accession Number: 20080616-0082.

Comment Date: 5 p.m. Eastern Time on Tuesday, July 1, 2008.

Docket Numbers: RP05-422-027.

Applicants: El Paso Natural Gas Company.

Description: Supplemental Refund Report to its January 17, 2008 Original Refund Report of El Paso Natural Gas Company.

Filed Date: 06/25/2008.

Accession Number: 20080625-5062.

Comment Date: 5 p.m. Eastern Time on Monday, July 7, 2008.

Docket Numbers: RP08-123-002.

Applicants: Central Kentucky Transmission Corporation.

Description: NiSource Gas Transmission & Storage submits Second Revised Sheet 35 et al. to FERC Gas Tariff, Second Revised Volume 1, to become effective 8/1/08.

Filed Date: 06/25/2008.

Accession Number: 20080626-0060.

Comment Date: 5 p.m. Eastern Time on Monday, July 7, 2008.

Docket Numbers: RP08-125-002.

Applicants: Crossroads Pipeline Company.

Description: Crossroads Pipeline Company submits Third Revised Sheet 50 et al. for inclusion in FERC Gas Tariff, First Revised Volume 1, to become effective 8/1/08.

Filed Date: 06/25/2008.

Accession Number: 20080626-0059.

Comment Date: 5 p.m. Eastern Time on Monday, July 7, 2008.

Docket Numbers: RP08-420-000.

Applicants: Millennium Pipeline Company, L.L.C.

Description: Millennium Pipeline Company, L.L.C. submits non-conforming firm transportation service and negotiated rate agreements with Consolidated Edison Company of New York, Inc. et al.

Filed Date: 06/23/2008.

Accession Number: 20080624-0167.

Comment Date: 5 p.m. Eastern Time on Monday, July 7, 2008.

Docket Numbers: RP08-421-000.

Applicants: Petal Gas Storage, L.L.C.

Description: Petal Gas Storage, L.L.C. submits its FERC Gas Tariff Original Volume 1, to become effective 7/23/08.

Filed Date: 06/24/2008.

Accession Number: 20080625-0090.

Comment Date: 5 p.m. Eastern Time on Monday, July 7, 2008.

Docket Numbers: RP08-422-000.

Applicants: Eastern Shore Natural Gas Company.

Description: Eastern Shore Natural Gas Company submits Twenty-First Revised Sheet 4 et al. to FERC Gas Tariff, Second Revised Volume 1, to become effective 7/1/08.

Filed Date: 06/25/2008.

Accession Number: 20080625-0185.

Comment Date: 5 p.m. Eastern Time on Monday, July 7, 2008.

Docket Numbers: CP98-150-011.

Applicants: Millennium Pipeline Company, L.L.C.

Description: Millennium Pipeline Company, L.L.C., submits Original Sheet 0, et al., to FERC Gas Tariff, Original Volume No. 1, to become effective 11/1/08.

Filed Date: 06/23/2008.

Accession Number: 20080624-0172.

Comment Date: 5 p.m. Eastern Time on Friday, July 11, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-15098 Filed 7-2-08; 8:45 am]

BILLING CODE 6717-01-P